DEPARTMENT OF HOMELAND SECURITY

[Docket ID: DHS-2023-0048]

Request for Information Regarding Department of Homeland Security Activities and Advancing Environmental Justice

AGENCY: Department of Homeland Security (DHS).

ACTION: Request for information regarding Department of Homeland Security Activities and Advancing Environmental Justice.

SUMMARY: The Department of Homeland Security (DHS or Department) is comprised of 15 Operational and Support Components with far-reaching programs and activities. With this Request for information (RFI), DHS is seeking public comment and feedback on how environmental justice is considered Department-wide, how it can provide opportunities for meaningful engagement in decision-making, and what to include in the next DHS Environmental Justice Strategy. The public is encouraged to provide input in response to the questions in this RFI and to share barriers and challenges, successes, suggestions, and ideas. DHS will use this information to help improve and advance the Department's environmental justice program, conduct meaningful engagement, and address environmental justice challenges that communities are facing.

DATES: Comments are requested on or before 60 days after publication of this RFI and must be received no later than 11:59 p.m. eastern time (ET) on February 16, 2024. DHS will not reply individually to responders but will consider all comments submitted by the deadline. DHS will consider comments received after this date for future advisory communications and outreach efforts to the extent possible.

ADDRESSES: Any information obtained from this RFI is intended for Government planning and strategy development. Response to this RFI is voluntary. Respondents may answer as many or as few questions as they wish. Comments of five pages or fewer are requested. Comments must be identified with the Agency's name and Docket Number DHS-2023-0048 and may be sent to DHS via the Federal e-Rulemaking Portal: https://www.regulations.gov. Follow the online instructions for submitting comments. All public comments received are subject to the Freedom of Information Act and will be posted in their entirety at https://www.regulations.gov, including any personal and/or business confidential information provided. Do not include any information you would not like to be made publicly available.

Email: DHSEnvironmentalJustice@hq.dhs.gov include Environmental Justice RFI in the message's subject line. Email submissions should be machine-readable (i.e., in PDF or Microsoft Word format) and not copyright-protected.

Mail or Hand Delivery: Please note that DHS will not accept any comments that are hand-delivered, mailed, or couriered. In addition, DHS cannot accept comments contained on any form of digital media storage devices, such as CDs/DVDs and USB drives. If you cannot submit your comment using https://www.regulations.gov, please email DHSEnvironmentalJustice@hq.dhs.gov for alternate instructions.

FOR FURTHER INFORMATION CONTACT: Sarah Koeppel, Senior Environmental Protection Specialist, by phone at 202-868-2759, or by email at DHSEnvironmentalJustice@hq.dhs.gov.

SUPPLEMENTARY INFORMATION:

I. Background

Executive Order (E.O.) 14096,¹ Revitalizing Our Nation's Commitment to Environmental Justice for All, signed April 21, 2023, defines “environmental justice” as the just treatment and meaningful involvement of all people, regardless of income, race, color, national origin, Tribal affiliation, or disability, in agency decision-making and other Federal activities that affect human health and the environment so that people:

¹ 88 FR 25251, April 26, 2023.

(1) are fully protected from disproportionate and adverse human health and environmental effects (including risks) and hazards, including those related to climate change, the cumulative impacts of environmental and other burdens, and the legacy of racism or other structural or systemic barriers; and

(2) have equitable access to a healthy, sustainable, and resilient environment in which to live, play, work, learn, grow, worship, and engage in cultural and subsistence practices.

E.O. 12898,² Federal Actions to Address Environmental Justice in Minority Populations and Low-Income Populations, was issued in 1994 and was the first executive order to recognize environmental justice concerns. This E.O. required Federal agencies to consider environmental justice impacts in their planning and decision-making processes, and set the stage for future guidance, policies, and E.O.s focused on identifying disproportionately high and adverse impacts. With the issuance of E.O. 14096, the White House called on the Federal Government to bring clean energy and healthy environments to all and to recognize, undo, and mitigate harm to those who have disproportionately suffered from toxic pollution and other environmental burdens like climate change. To better focus Federal agency resources and attention on the needs and priorities of marginalized and overburdened communities, the White House also launched the White House Campaign for Environmental Justice.

² 59 FR 7629, February 16, 1994.

DHS and Environmental Justice

DHS Components include: U.S. Citizenship and Immigration Services (USCIS), U.S. Coast Guard (USCG), U.S. Customs and Border Protection (CBP), Cybersecurity and Infrastructure Security Agency (CISA), Federal Emergency Management Agency (FEMA), Federal Law Enforcement Training Center (FLETC), U.S. Immigration and Customs Enforcement (ICE), U.S. Secret Service (USSS), Transportation Security Administration (TSA), Management Directorate, Science and Technology Directorate (S&T), Countering Weapons of Mass Destruction Office (CWMD), Office of Intelligence and Analysis (I&A), Office of Homeland Security Situational Awareness (OSA), Office of Health Security (OHS), Office of the Citizenship and Immigration Services Ombudsman (CIS Ombudsman), and Office of the Immigration Detention Ombudsman (OIDO).

As a reflection of the many and varied DHS Components, DHS programs and activities are far-reaching and include:

(1) maritime safety, security, and stewardship;

(2) the administration of federally assisted programs;

(3) emergency management programs;

(4) border security;

(5) transportation security;

(6) immigration services;

(7) law enforcement training;

(8) science and technology research;

(9) cyber security and infrastructure security; and

(10) mission support and asset management.

The Department's ability to identify and advance environmental justice arises principally through environmental review during compliance with the National Environmental Policy Act (42 U.S.C. 4321-4347); compliance and enforcement related to title VI of the Civil Rights Act of 1964 (42 U.S.C. 2000d et seq.); section 504 of the Rehabilitation Act of 1973 (29 U.S.C. 794 et seq.), as amended and other applicable Federal civil rights authorities in connection with programs and activities funded by DHS financial assistance to State, Tribal, Territorial, local governments, and other recipients; environmental compliance and remediation activities; and regulatory permitting. Examples of DHS programs, policies, and activities in which environmental justice consideration may arise include concerns about air and/or water quality related to DHS buildings or operations; DHS's storage, replacement, removal, and transportation of hazardous materials; disruption to communities due to DHS goods movement; restoration and remediation of impacts from ongoing DHS activities and legacy contamination; equitable resilience and recovery programs and activities carried out by DHS and/or recipients of DHS financial assistance following a flood or other disaster or emergency, for example, new construction, demolition of property, or relocation of communities; or strengthening resilience to climate change and other natural and human-made disruptive events.

The DHS Environmental Justice Program is co-led by the Office of the Chief Readiness Support Officer (OCRSO) and the Office for Civil Rights and Civil Liberties (CRCL). Recognizing that the incorporation of environmental justice policies may differ across the Department depending on a Component's mission, the DHS Environmental Justice Program promotes a comprehensive, consistent, and adaptive strategy among DHS Components through training, ongoing policy development to incorporate environmental justice considerations, and strong partnerships with various stakeholders.

II. Purpose of RFI

DHS is interested in receiving input from the public on any perceived environmental impacts that the public believes result from DHS mission programs and activities and/or those programs and activities funded by DHS. DHS is issuing this RFI to receive input from the public, specifically on any interests, concerns, and perspectives about:

(1) how DHS addresses environmental justice Department-wide,

(2) how it can provide opportunities for meaningful engagement in decision-making processes that may affect human health or the environment, and

(3) what should be included in the next DHS Environmental Justice Strategy.

DHS seeks engagement and collaboration with communities with environmental justice concerns who are potentially affected by DHS mission programs and activities and/or those programs and activities funded by DHS. DHS may use the information to evaluate, implement, modify, expand, and/or streamline its policies, practices, and processes to promote meaningful involvement, establish new and strengthen community partnerships, and inform its update to the DHS Environmental Justice Strategy and other policymaking.

This effort will enable DHS to further implement E.O. 12898; E.O. 13985,³ Advancing Racial Equity and Support for Underserved Communities Through the Federal Government; E.O. 13990,⁴ Protecting Public Health and the Environment and Restoring Science to Tackle the Climate Crisis; E.O. 14008,⁵ Tackling the Climate Crisis at Home and Abroad; E.O. 14052,⁶ Implementation of the Infrastructure Investment and Jobs Act; E.O. 14057,⁷ Catalyzing Clean Energy Industries and Jobs Through Federal Sustainability; E.O. 14082,⁸ Implementation of the Energy and Infrastructure Provisions of the Inflation Reduction Act of 2022; E.O. 14091,⁹ Further Advancing Racial Equity and Support for Underserved Communities Through the Federal Government; and E.O. 14096, Revitalizing Our Nation's Commitment to Environmental Justice For All.

³ 86 FR 7009, January 25, 2021.

⁴ 86 FR 7037, January 25, 2021.

⁵ 86 FR 7619, February 1, 2021.

⁶ 86 FR 64335, November 18, 2021.

⁷ 86 FR 70935, December 13, 2021.

⁸ 87 FR 56861, September 16, 2022.

⁹ 88 FR 10825, February 22, 2023.

III. Key Questions for Input

DHS seeks to establish new goals and objectives to support resilient communities and provide meaningful participation for all persons in DHS decision-making processes that may affect human health or the environment. A central goal of DHS's existing Environmental Justice Strategy is to build resilience and promote adaptation in low-income and minority communities. The Department's environmental justice program must evolve as the environmental justice landscape evolves due to climate change, new scientific developments, and an increased policy focus on environmental justice and equity throughout the Federal Government. In brief, new and more ambitious approaches are essential, with concrete, meaningful steps needed to advance environmental justice.

The five identified environmental justice strategy goals listed in the FY 2021-2025 DHS Environmental Justice Strategy ¹⁰ include objectives and outcomes that will help the Department advance equity and environmental justice:

¹⁰ https://www.dhs.gov/publication/dhs-environmental-justice-strategy-fiscal-years-2021-2025.

(1) Expand Department-wide awareness of environmental justice considerations that might result from its programs, policies, and activities.

(2) Further the integration of environmental justice principles into DHS lines of business, prominently including mitigation, adaptation, and resilience.

(3) Strengthen outreach to communities, organizations, and interest groups through public engagement.

(4) Expand collaboration and knowledge-sharing with interagency partners to efficiently focus Department resources and technical assistance.

(5) Integrate environmental justice principles into Departmental climate change initiatives.

Engagement/Collaboration

(1) What are examples of successful collaborations between Federal agencies and Tribal, Territorial, local, and State governments or communities with environmental justice concerns?

(2) How can DHS enhance public participation in decision-making that impacts human health and the environment?

(3) What resources and technical assistance are needed regarding Departmental activities that may impact environmental justice communities to plan meaningful engagement with community organizations and interest groups?

(4) How can DHS more effectively engage and collaborate with underserved communities with environmental justice concerns, including communities with members of various races, religions, gender identities, and national origins?

(5) How can DHS better engage and collaborate effectively with Tribes, both federally and non-federally recognized, Native Hawaiian organizations, and Indigenous Peoples, including Indigenous migrant communities?

(6) How can DHS better engage with individuals with disabilities and integrate disability considerations into its decision-making?

Assessing Existing DHS Programs

(1) How can DHS better understand and integrate environmental justice concerns and evaluate the potential for disproportionate effects on communities with these concerns when preparing documentation in accordance with the National Environmental Policy Act of 1969?

(2) How can DHS increase recipient, e.g., grantee of DHS funding, awareness of environmental justice considerations and responsibilities with respect to disabilities, such as under section 504 of the Rehabilitation Act of 1973 ¹¹ in federally assisted programs?

¹¹ The Rehabilitation Act of 1973 prohibits discrimination based on disability in federally assisted and conducted programs.

(3) How can DHS increase recipient, e.g., grantee of DHS funding, awareness of environmental justice considerations, and responsibilities with respect to race, color, and national origin, such as under title VI of the Civil Rights Act of 1964 ¹² in federally assisted programs and activities, including obligations to people who are limited English proficient?

¹² Title VI of the Civil Rights Act of 1964, as amended, prohibits discrimination based on race, color, or national origin in programs and activities received Federal financial assistance.

(4) How can DHS assist communities with environmental justice concerns to receive Justice40 ¹³ benefits?

¹³ The Justice 40 Initiative, established under E.O. 14008, commits the Federal Government to directing 40% of the benefits from certain Federal investments, such as clean energy and energy efficiency; clean transit; affordable and sustainable housing; training and workforce development; remediation and reduction of legacy pollution; and development of critical clean water and wastewater infrastructure, to communities with environmental justice concerns. There are four covered programs within DHS/FEMA, including the Building Resilient Infrastructure and Communities, Flood Mitigation Assistance, FEMA Risk Mapping, Assessment and Planning, and the Regional Catastrophic Preparedness Grant Program.

(5) How should DHS consider environmental justice during building, facility, and land management and operations and maintenance activities?

(6) Do you have suggestions for changes to DHS's current programs, regulations, or policies that would combat climate change, bolster underserved communities' resilience to climate change, or help communities adapt to its impacts?

DHS Environmental Justice Strategy

(1) Please provide additional feedback on the vision, framework, and outcomes of the DHS Environmental Justice Strategy for Fiscal Years 2021-2025 ¹⁴ and the DHS Environmental Justice Annual Implementation Report for Fiscal Year 2022.¹⁵

¹⁴ https://www.dhs.gov/publication/dhs-environmental-justice-strategy-fiscal-years-2021-2025.

¹⁵ https://www.dhs.gov/publication/environmental-justice-annual-implementation-report-fiscal-year-2022.

(2) What other strategic goals should DHS include in the next Environmental Justice Strategy to advance environmental justice?

(3) How can DHS better address environmental justice concerns through its environmental review of the impact of operations, financial assistance to State, local, and Tribal governments, and regulatory permitting activities?

(4) In addition to the nine program areas identified in DHS Directive 023-04, Environmental Justice, are there other DHS programs where DHS could incorporate environmental justice policies and considerations?

IV. Written Comments

You may respond to some or all questions listed in this RFI. Please ensure your response is clear and indicate which question you are responding to. You may also include links to online materials and should ensure all links are publicly available. Each response should include:

(1) the name of the individual(s) and/or organization(s) responding;

(2) policy suggestions that your submission and materials support; and

(3) a contact for questions or other follow-up on your response.

Please note that this RFI is only a planning document and should not be construed as policy, a solicitation for proposals, or an obligation by DHS or the Federal Government.

V. Review of Public Feedback

DHS encourages all potentially interested parties—individuals, associations, State, local, Tribal, and Territorial governmental organizations, non-governmental organizations, academic institutions, and private sector entities—to respond. DHS may use the feedback received to help further environmental justice initiatives, consider reforms, and update the Department's Environmental Justice Strategy in accordance with recent Executive Orders on environmental justice and equity. This RFI is used solely for information-gathering purposes, and DHS is not initiating a rulemaking at this time. Public input in response to this RFI does not bind DHS to take any further actions, including publishing a formal response or initiating a recommended change. DHS will consider the feedback received and may make changes or process improvements at its sole discretion.

Thomas D. Chaleki,
Chief Readiness Support Officer, Department of Homeland Security.

[FR Doc. 2023-27628 Filed 12-15-23; 8:45 am]

BILLING CODE 9112-FF-P